CONSUMER PRODUCT SAFETY COMMISSION

Notice of Submission for OMB Review of Collection of Information Approval Extension and Request for Comments—Amended Interim Safety Standard for Cellulose Insulation

AGENCY: Consumer Product Safety Commission.

ACTION: Notice.

SUMMARY: In the Federal Register of March 3, 2004 (69 FR 10001), the Consumer Product Safety Commission published a notice in accordance with provisions of the Paperwork Reduction Act of 1995 (44 U.S.C. Chapter 35) to announce the agency's intention to seek extension of approval of the collection of information in regulations implementing the Amended Interim Safety Standard for Cellulose Insulation. 16 CFR part 1209. No comments were received in response to the March 3, 2004 notice. The Commission now announces that it has submitted to the Office of Management and Budget a request for extension of approval of that collection of information without change for a period of three years from the date of approval.

The cellulose insulation standard prescribes requirements for flammability and corrosiveness of cellulose insulation produced for sale to or use by consumers. The standard requires manufacturers and importers of cellulose insulation to test insulation for resistance to smoldering and small open-flame ignition, and for corrosiveness, and to maintain records of that testing.

Additional Information About the Request for Extension of Approval of Information Collection Requirements

Agency address: Consumer Product Safety Commission, Washington, DC 20207.

Title of information collection: Amended Interim Safety Standard for Cellulose Insulation. 16 CFR part 1209.

Type of request: Extension of approval.

General description of respondents: Manufacturers and importers of cellulose insulation.

Estimated number of respondents: 45.

Estimated average number of hours per respondent: 1,320 per year.

Estimated number of hours for all respondents: 59,400 per year.

Estimated cost of collection for all respondents: $1,454,000 per year.

Comments: Comments on this request for reinstatement of approval of information collection requirements should be submitted by June 16, 2004 to (1) The Office of Information and Regulatory Affairs, Attn: OMB Desk Officer for CPSC, Office of Management and Budget, Washington, DC 20503; telephone: (202) 395-7340, and (2) the Office of the Secretary, Consumer Product Safety Commission, Washington, DC 20207. Written comments may also be sent to the Office of the Secretary by facsimile at (301) 504-0127 or by e-mail at cpsc-os@cpsc.gov.

Copies of this request for renewal of the information collection requirements and supporting documentation are available from Linda Glatz, management and program analyst, Office of Planning and Evaluation, Consumer Product Safety Commission, Washington, DC 20207; telephone: (301) 504-7671.

Dated: May 11, 2004.
Todd A Stevenson,
Secretary, Consumer Product Safety Commission.

[FR Doc. 04-11034 Filed 5-14-04; 8:45 am]

BILLING CODE 6355-01-P